DEPARTMENT OF HEALTH AND HUMAN SERVICES

Food and Drug Administration

Cooperative Agreement to Support the World Health Organization International Programme on Chemical Safety

AGENCY: Food and Drug Administration, HHS.

ACTION: Notice.

I. Funding Opportunity Description

The Food and Drug Administration (FDA) is announcing its intent to accept and consider a single source application for the award of a cooperative agreement to the World Health Organization (WHO) to support the International Programme on Chemical Safety (IPCS). FDA anticipates providing $90,000 (direct and indirect costs) in fiscal year 2005 in support of this project. Subject to the availability of Federal funds and successful performance, 2 additional years of support up to $90,000 per year (direct and indirect costs) will be available. FDA will support the research covered by this notice under the authority of section 301 of the Public Health Service (PHS) Act (42 U.S.C. 241). FDA's research program is described in the Catalog of Federal Domestic Assistance No. 93.103. Before entering into cooperative agreements, FDA carefully considers the benefits such agreements will provide to the public.

The cooperative agreement ensures FDA's participation and leadership in important international risk assessment and standard setting activities for food ingredients, contaminants, and veterinary drug residues. The development of such international standards provides the public with greater assurance of the quality and safety of food sold in the United States.

II. Eligibility Information

Competition is limited to the WHO/IPCS because it is the parent organization of the Joint Food and Agriculture Organization (FAO)/WHO Expert Committee on Food Additives (JECFA), which provides scientific advice to the Codex Alimentarius Commission (CAC). The international food standards established by the CAC are recognized by the World Trade Organization (WTO) as necessary to protect public health and presumed to be consistent with the Sanitary and Phytosanitary (SPS) Agreement of the General Agreement on Tariffs and Trade (GATT). These programs under the IPCS are the only such programs in existence, and make the IPCS unique as a participant in international standard setting for food ingredients, contaminants, and veterinary drug residues. Awarding this cooperative agreement will help ensure that the risk assessments provided by the JECFA to the CAC are science-based, enhance the safety of food sold in the United States, and enhance the safety of food additives and veterinary drug residues in imported food.

As of October 1, 2003, applicants are required to have a Dun and Bradstreet Number (DUNS) number to apply for a grant or cooperative agreement from the Federal Government. The DUNS number is a 9-digit identification number, which uniquely identifies business entities. Obtaining a DUNS number is easy and there is no charge. To obtain a DUNS number, foreign applicants should go to http://www.grants.gov/RequestaDUNS, 4th paragraph. (FDA has verified the Web site address, but FDA is not responsible for any subsequent changes to the Web site after this document publishes in the Federal Register.)

III. Application and Submission

For further information or a copy of the complete Request for Applications (RFA) contact Cynthia Polit, Grants Management Specialist, Division of Contracts and Grants Management (HFA-500), Food and Drug Administration, 5600 Fishers Lane, Rockville, MD 20857, 301-827-7180, e-mail: cynthia.polit@fda.gov or cpolit@oc.fda.gov. This RFA can also be viewed on Grants.gov under “Grant Find.” A copy of the complete RFA can also be viewed on FDA's Center for Food Safety and Applied Nutrition Web site at http://www.cfsan.fda.gov/list.html.

Dated: April 5, 2005.
Jeffrey Shuren,
Assistant Commissioner for Policy.

[FR Doc. 05-7288 Filed 4-11-05; 8:45 am]

BILLING CODE 4160-01-S